EXPORT-IMPORT BANK

[Public Notice 81]

Agency Information Collection Activities: Proposed Collection; Comment Request

AGENCY: Export-Import Bank of the U.S.

ACTION: Notice and request for comments.

SUMMARY: The Export-Import Bank, as a part of its continuing effort to reduce paperwork and respondent burden, invites the general public and other Federal Agencies to comment on the proposed information collection, as required by the Paperwork Reduction Act of 1995. Our customers will be able to submit this form on paper or electronically. The form has been updated in the following ways;

• The format has been changed in order to standardize its outline with those used for medium-term insurance and guarantees and exporter short-term single sale insurance.

• Information requested in order for the applicant to obtain special insurance coverages has been taken out of the body of the application and put in appendixes.

• Information about the end-user and agent is now requested.

• Legal certification have been updated.

• The application also more explicitly states the financial information that is required to be submitted with the application.

DATES: Written comments should be received on or before May 8, 2006 to be assured of consideration.

ADDRESSES: Direct all comments and requests for additional information to Angela Beckham, Export-Import Bank of the U.S., 811 Vermont Avenue, NW., Washington, DC 20571, (202) 565-3418.

SUPPLEMENTARY INFORMATION:

Title and Form Number: Application for Financial Institution Short-term Single-Buyer Insurance, EIB 92-41.

OMB Number: Presently part of OMB # 3048-0009 collection. Going forward we would like this form to have its own OMB number.

Type of Review: Regular.

Need and Use: The information requested enables the financial institution applicant to provide Ex Im Bank with the information necessary to obtain legislatively required assurance of repayment and fulfills other statutory requirements.

Affected Public: The form affects entities involved in the export of U.S. goods and services.

Estimated Annual Respondents: 265.

Estimated Time Per Respondent: 1 hour.

Estimated Annual Burden: 265 hours.

Frequency of Reporting or Use: As needed, each time a financial institution seeks short-term insurance for an export sale to a single buyer.

Dated: March 2, 2006.
Solomon Bush,
Agency Clearance Officer.

BILLING CODE 6690-01-M

[FR Doc. 06-2177 Filed 3-7-06; 8:45 am]

BILLING CODE 6690-01-C